DEPARTMENT OF THE TREASURY

Submission for OMB Review; Comment Request

May 23, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 27, 2005 to be assured of consideration.

Internal Revenue Service (IRS)

OMB Number: 1545-1762.

Form Numbers: IRS Form 8050.

Type of Review: Extension.

Title: Direct Deposit of corporate Tax Refund.

Description: This form is used to request a deposit of a tax refund directly into an account at any U.S. bank or other financial institution.

Respondents: Business or other for-profit, Individuals or households.

Estimated Number of Respondents/Recordkeepers: 210,000.

Estimated Burden Hours Respondent/Recordkeeper:

Recordkeeping—1 hr., 25 min.

Learning about the law or the form—6 min.

Preparing, copying, assembling, and sending the form to the IRS—7 min.

Frequency of response: Annually.

Estimated Total Reporting/Recordkeeping Burden: 348,600 hours.

Clearance Officer: Glenn P. Kirkland, (202) 622-3428, Internal Revenue Service, Room 6516, 1111 Constitution Avenue, NW., Washington, DC 20224.

OMB Reviewer: Alexander T. Hunt (202) 395-7316, Office of Management and Budget, Room 10235, New Executive Office Building, Washington, DC 20503.

Lois K. Holland,
Treasury PRA Clearance Officer.

[FR Doc. 05-10639 Filed 5-26-05; 8:45 am]

BILLING CODE 4830-01-P